SUSQUEHANNA RIVER BASIN COMMISSION

Projects Approved for Consumptive Uses of Water

AGENCY: Susquehanna River Basin Commission.

ACTION: Notice.

SUMMARY: This notice lists the projects approved by rule by the Susquehanna River Basin Commission during the period set forth in DATES.

DATES: December 1-31, 2021.

ADDRESSES: Susquehanna River Basin Commission, 4423 North Front Street, Harrisburg, PA 17110-1788.

FOR FURTHER INFORMATION CONTACT: Jason E. Oyler, General Counsel and Secretary to the Commission, telephone: (717) 238-0423, ext. 1312; fax: (717) 238-2436; email: joyler@srbc.net. Regular mail inquiries may be sent to the above address.

SUPPLEMENTARY INFORMATION: This notice lists the projects, described below, receiving approval for the consumptive use of water pursuant to the Commission's approval by rule process set forth in 18 CFR 806.22 (e) and 18 CFR 806.22 (f) for the time period specified above:

Water Source Approval—Issued Under 18 CFR 806.22(f)

1. Repsol Oil & Gas USA, LLC; Pad ID: SHAW (05-272) J; ABR-202112001; Rush Township, Susquehanna County; Pa.; Consumptive Use of Up to 6.0000 mgd; Approval Date: December 3, 2021.

2. Coterra Energy, Inc.; Pad ID: GrooverS P1; ABR-201412003.R1; Bridgewater Township, Susquehanna County, Pa.; Consumptive Use of Up to 5.0000 mgd; Approval Date: December 10, 2021.

3. SWN Production Company, LLC; Pad ID: HDK; ABR-201112001.R2; Franklin Township, Susquehanna County, Pa.; Consumptive Use of Up to 4.9990 mgd; Approval Date: December 10, 2021.

4. Seneca Resources Company, LLC; Pad ID: Oldroyd 509; ABR-20091218.R2; Rutland Township, Tioga County; Pa.; Consumptive Use of Up to 4.0000 mgd; Approval Date: December 16, 2021.

5. Seneca Resources Company, LLC; Pad ID: Starks 460; ABR-20091217.R2; Covington and Richmond Townships, Tioga County; Pa.; Consumptive Use of Up to 4.0000 mgd; Approval Date: December 16, 2021.

6. Seneca Resources Company, LLC; Pad ID: Houck 433; ABR-20091207.R2; Delmar and Shippen Townships, Tioga County; Pa.; Consumptive Use of Up to 4.0000 mgd; Approval Date: December 16, 2021.

7. Coterra Energy, Inc.; Pad ID: WrightW P1; ABR-201412005.R1; Bridgewater Township, Susquehanna County, Pa.; Consumptive Use of Up to 5.0000 mgd; Approval Date: December 16, 2021.

8. SWN Production Company, LLC; Pad ID: INNES; ABR-201111032.R2; New Milford Township, Susquehanna County, Pa.; Consumptive Use of Up to 4.9990 mgd; Approval Date: December 16, 2021.

9. SWN Production Company, LLC; Pad ID: SKELLY; ABR-201112005.R2; New Milford Township, Susquehanna County, Pa.; Consumptive Use of Up to 4.9990 mgd; Approval Date: December 16, 2021.

10. Seneca Resources Company, LLC; Pad ID: SGL 90 E Pad; ABR-201512008.R1; Lawrence Township, Clearfield County; Pa.; Consumptive Use of Up to 4.0000 mgd; Approval Date: December 22, 2021.

11. Coterra Energy, Inc.; Pad ID: StellitanoA P1; ABR-201412008.R1; Gibson Township, Susquehanna County, Pa.; Consumptive Use of Up to 5.0000 mgd; Approval Date: December 22, 2021.

12. Coterra Energy, Inc.; Pad ID: HibbardAM P1; ABR-20091223.R2; Dimock Township, Susquehanna County, Pa.; Consumptive Use of Up to 5.0000 mgd; Approval Date: December 22, 2021.

13. Coterra Energy, Inc.; Pad ID: HibbardAM P2; ABR-20091224.R2; Dimock Township, Susquehanna County, Pa.; Consumptive Use of Up to 5.0000 mgd; Approval Date: December 22, 2021.

14. SWN Production Company, LLC; Pad ID: HOWLAND-LENT; ABR-201112032.R2; Herrick Township, Bradford County, Pa.; Consumptive Use of Up to 4.9990 mgd; Approval Date: December 22, 2021.

15. Pennsylvania General Energy Company, L.L.C.; Pad ID: COP Tract 729 Pad B; ABR-201111015.R2; Cummings Township, Lycoming County; Pa.; Consumptive Use of Up to 3.5000 mgd; Approval Date: December 27, 2021.

16. Coterra Energy, Inc.; Pad ID: ZuppK P1; ABR-201112004.R2; Harford Township, Susquehanna County, Pa.; Consumptive Use of Up to 5.0000 mgd; Approval Date: December 27, 2021.

17. Chief Oil & Gas LLC; Pad ID: Kingsley B Drilling Pad; ABR-201112009.R2; Monroe Township, Bradford County; Pa.; Consumptive Use of Up to 2.0000 mgd; Approval Date: December 29, 2021.

18. Range Resources—Appalachia, LLC; Pad ID: Cornwall Mountain; ABR-201112040.R2; Lewis and Cogan House Townships, Lycoming County, Pa.; Consumptive Use of Up to 7.5000 mgd; Approval Date: December 29, 2021.

Authority: Public Law 91-575, 84 Stat. 1509 et seq., 18 CFR parts 806, 807, and 808.

Dated: January 6, 2021.
Jason E. Oyler,
General Counsel and Secretary to the Commission.

[FR Doc. 2022-00317 Filed 1-10-22; 8:45 am]

BILLING CODE 7040-01-P